DEPARTMENT OF DEFENSE

Office of the Secretary

Department of Defense Medicare-Eligible Retiree Health Care Board of Actuaries; Notice of Federal Advisory Committee Meeting

AGENCY: Under Secretary of Defense for Personnel and Readiness, Department of Defense Medicare-Eligible Retiree Health Care Board of Actuaries, Department of Defense.

ACTION: Notice of federal advisory committee meeting.

SUMMARY: The Department of Defense (DoD) is publishing this notice to announce that the following Federal Advisory Committee meeting of the Department of Defense Medicare-Eligible Retiree Health Care Board of Actuaries will take place.

DATES: Open to the public Friday, August 2, 2019, from 10:00 a.m. to 12:00 p.m.

ADDRESSES: The address of the open meeting is 4800 Mark Center Drive, Conference Room 13, Level B1, Alexandria, VA 22350.

FOR FURTHER INFORMATION CONTACT: Inger Pettygrove, (703) 225-8803 (Voice), inger.m.pettygrove.civ@mail.mil (Email). Mailing address is Defense Human Resources Activity, DoD Office of the Actuary, 4800 Mark Center Drive, STE 03E25, Alexandria, VA 22350-8000. Website: https://actuary.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to execute the provisions of 10 U.S.C. chapter 56 (10 U.S.C. 1114 et seq.). The Board shall review DoD actuarial methods and assumptions to be used in the valuation of benefits under DoD retiree health care programs for Medicare-eligible beneficiaries.

Agenda

1. Meeting Objective.

a. Approve actuarial assumptions and methods needed for calculating:

(i) September 30, 2018 unfunded liability (UFL)

(ii) FY 2021 per capita full-time and part-time normal cost amounts

(iii) October 1, 2019, Treasury UFL amortization payment

b. Approve per capita full-time and part-time normal cost amounts for the October 1, 2019 (FY 2020) normal cost payments

2. Trust Fund Update—Investment Experience.

3. Medicare-Eligible Retiree Health Care Fund Update.

4. September 30, 2017, Actuarial Valuation Results.

5. September 30, 2018, Actuarial Valuation Proposals.

6. Decisions.

(i) Actuarial assumptions and methods needed for calculating items specified in agenda item 1.a

(ii) Per capita full-time and part-time normal cost amounts needed for calculating item specified in agenda item 1.b.

Meeting Accessibility: Pursuant to 5 U.S.C. 552b and 41 CFR 102-3.140 through 102-3.165 and the availability of space, this meeting is open to the public. The Mark Center is an annex of the Pentagon. Those without a valid DoD Common Access Card must contact Kathleen Ludwig at 571-372-1993 no later than July 8, 2019. Attendees should secure their meeting reservations before this deadline to avoid any issues with building access. It is strongly recommended that attendees plan to arrive at the Mark Center at least 30 minutes prior to the start of the meeting.

Written Statements: Persons desiring to attend the DoD Medicare-Eligible Retiree Health Care Board of Actuaries meeting or make an oral presentation or submit a written statement for consideration at the meeting, must notify Kathleen Ludwig at 571-372-1993, or Kathleen.A.Ludwig.civ@mail.mil, by July 8, 2019.

Dated: February 25, 2019.
Shelly E. Finke,
Alternate OSD Federal Register Liaison Officer, Department of Defense.

[FR Doc. 2019-03553 Filed 2-27-19; 8:45 am]

BILLING CODE 5001-06-P